NATIONAL CRIME PREVENTION AND PRIVACY COMPACT COUNCIL

Fingerprint Submission Requirements Rule

Authority: 42 U.S.C. 14616.

AGENCY: National Crime Prevention and Privacy Compact Council.

ACTION: Notice.

SUMMARY: Notice of the Compact Council's establishment of a process for initiating noncriminal justice criminal history record checks during times of emergencies and disasters under the authority of the Fingerprint Submission Requirements Rule, title 28 Code of Federal Regulations (CFR), part 901.

FOR FURTHER INFORMATION CONTACT: Gary S. Barron, FBI CJIS Division, 1000 Custer Hollow Road, Module D3, Clarksburg, WV 26306; telephone (304) 625-2803; email gbarron@leo.gov; fax number (304) 625-2539.

SUPPLEMENTARY INFORMATION: This notice provides the process that a state or federal agency may utilize to request Compact Council approval to conduct federal noncriminal justice criminal history record checks of individuals who, during an existing or impending emergency or disaster, will have access to children, the elderly, or disabled persons (vulnerable populations). The Compact Council has approved similar requests pursuant to the Fingerprint Submission Requirements Rule (28 CFR, part 901) when health or safety of vulnerable populations is at issue and time is of the essence. Health or safety issues will be present during evacuation and relocation efforts.

As a prerequisite to receiving approval to initiate noncriminal justice criminal history record checks under the exigent circumstances described above, the President or authorized state executive officer(s) must have declared a state of emergency or major disaster in the jurisdiction from which individuals are being displaced, or to which the individuals are being relocated. States eligible to make such requests include the state or states in which the disaster has been declared and the state(s) to which evacuees are relocated. The appropriate federal or state official may submit the request to the FBI Compact Officer, FBI Criminal Justice Information Services (CJIS) Division, 1000 Custer Hollow Road, Clarksburg, WV 26306. The appropriate federal/state officials authorized to make such requests are: Federal/state CJIS Systems Officers (CSO), State Compact Officers (SCO), State Identification Bureau (SIB) Chiefs, or an official who is superior in the federal/state official's chain of command. The authorized federal or state official may make initial contact by telephone, agreeing to restrict dissemination of the results of exigent name-based criminal history record checks to the receiving governmental department or related governmental agency and to submit fingerprints within 15 days of each name-based check, which must be part of a follow-up e-mail or letter to the FBI Compact Officer.

The FBI Compact Officer will determine whether to approve the request, consulting with the Compact Council if necessary. Upon approval of the request, the FBI Compact Office will coordinate FBI CJIS Division procedures and communicate detailed information to the requesting official regarding operational procedures to be followed, which may include: the issuance of a unique Originating Agency Identifier (ORI) for use in conducting name-based checks of the Interstate Identification Index (III) system and/or submission of the follow-up fingerprints; a specific time frame that such exigent criminal history record checks may be conducted; other requirements and information needed for the CJIS Division to process the criminal history record checks; and any additional guidance established by the Compact Council or the CJIS Division.

Prior to conducting the exigent federal criminal history record checks, a state statute authorizing fingerprint submissions to the FBI for individuals having unsupervised contact with children (or other vulnerable population) would ideally have been submitted to the FBI and approved pursuant to Public Law 92-544. However, in the absence of such approved state statute, the FBI Compact Officer may determine that the National Child Protection Act (NCPA)/Volunteers for Children Act (VCA) may be used as authorization to access FBI-maintained criminal history record information during emergencies and disasters. Authorized federal or state officials must ensure, within reason, that a system is maintained to track the name-based criminal history record checks of the III system and the required follow-up fingerprint submissions during the emergency period and to ensure name-based check results are disseminated solely to government officials to be used for official purposes.

Dated: February 23, 2010.
Liane M. Moriyama,
Compact Council Chairman.

[FR Doc. 2010-5708 Filed 3-16-10; 8:45 am]

BILLING CODE 4410-02-P